DEPARTMENT OF ENERGY

Federal Energy Regulatory Commission

[Docket No. RP00-544-000]

Carnegie Interstate Pipeline Company; Notice of Tariff Filing

September 19, 2000.

Take notice that on September 15, 2000, Carnegie Interstate Pipeline Company (CIPCO), tendered for filing as part of its FERC Gas Tariff, Original Volume No. 1, the following tariff sheets:

Fifteenth Revised Sheet No. 7

Second Revised Sheet No. 126

Third Revised Sheet No. 127

CIPCO requests that the Commission approve the first tariff sheet identified above effective March 27, 2000, and approve the other two tariff sheets effective October 1, 2000, and requests a waiver of all Commission rules and regulations so as to implement such effective date.

CIPCO states that the filed tariff sheets are being filed to (a) eliminate the maximum rate ceilings for short-term capacity release transactions through September 30, 2002; and (b) to facilitate compliance with Order No. 637 and the revised reporting requirements in Section 161.3(1)(2) of the Commission's Regulations.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24520 Filed 9-22-00; 8:45 am]

BILLING CODE 6717-01-M